DEPARTMENT OF ENERGY

Notice of Establishment of One and Termination of Six Federal Advisory Committees

AGENCY: Office of Science, Department of Energy.

ACTION: Notice of establishment of a Unified Office of Science Federal Advisory Committee and termination of six Office of Science Federal Advisory Committees.

SUMMARY: The Department of Energy (DOE) is publishing this notice pursuant to the Federal Advisory Committee Act (FACA) of 1975, Federal Advisory Committee Management regulations, and following consultation with the Committee Management Secretariat of the General Services Administration. Notice is hereby given that a new unified Committee, the Office of Science Advisory Committee (SCAC), will be established for a two-year period. The Committee will provide advice, information, and recommendations to the Director, Office of Science, Department of Energy, on a continuing basis on the SC programs. This unified advisory committee, which will replace the Office of Science six programmatic advisory committees, will better support the cross-disciplinary mission and strategic direction of the office.

DATES: This also serves as notification that the following Federal Advisory Committees were terminated effective August 8, 2025: Advanced Scientific Computing Advisory Committee, Basic Energy Sciences Advisory Committee, Biological and Environmental Research Advisory Committee, Fusion Energy Sciences Advisory Committee, High Energy Physics Advisory Panel, and the Nuclear Science Advisory Committee.

FOR FURTHER INFORMATION CONTACT: Linda Horton, Associate Deputy Director for Science Programs; telephone: (301) 903-7506; email: Linda.Horton@science.doe.gov.

SUPPLEMENTARY INFORMATION: For the new Committee being formed, SCAC, members will be carefully considered to be balanced in terms of views represented and functions to be performed, in accordance with FACA, and to obtain a balance of scientific disciplines, experiences, points or view, and geography. Members shall be experts in their respective fields from entities, including, but not limited to, National Laboratories, research facilities, industry, and academic institutions. Membership and representation of all interests will be determined in accordance with the requirements of FACA.

The Committee will operate in accordance with the provisions of FACA and the rules and regulations in implementation of that Act. The Committee has been deemed essential to DOE's business and in the public interest, in conjunction with the performance of duties imposed upon the DOE, by law and agreement.

Six Committees are being terminated under the provision of the Federal Advisory Committee Act of 1975 (5 U.S.C. Ch. 10) and 41 CFR 102-3.55.

Signing Authority

This document was signed on November 13, 2025, by David Borak, Committee Management Officer, pursuant to delegated authority from the Secretary of Energy. That document with the original signature and date is maintained by the Department of Energy. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on November 14, 2025.
Jennifer Hartzell,
Alternate Federal Register Liaison Officer, U.S. Department of Energy.

[FR Doc. 2025-20131 Filed 11-17-25; 8:45 am]

BILLING CODE 6450-01-P